FEDERAL ELECTION COMMISSION

Sunshine Act Notice

TIME AND DATE: Wednesday, November 10, 2021 at 3 p.m.

PLACE: Virtual Hearing. Note: Because of the covid-19 pandemic, we will conduct the hearing virtually. If you would like to access the hearing, see the instructions below.

STATUS: This hearing will be open to the public. To access the virtual hearing, go to the commission's website www.fec.gov and click on the banner to be taken to the hearing page.

MATTER TO BE CONSIDERED: Audit Hearing: Mike Braun for Indiana.

CONTACT PERSON FOR MORE INFORMATION: Judith Ingram, Press Officer; Telephone: (202) 694-1220.

Authority: Government in the Sunshine Act, 5 U.S.C. 552b.

Laura E. Sinram,
Acting Secretary and Clerk of the Commission.

[FR Doc. 2021-24285 Filed 11-2-21; 4:15 pm]

BILLING CODE 6715-01-P